INTERNATIONAL TRADE COMMISSION

[USITC SE-08-003]

Government in the Sunshine Act Meeting Notice

Agency Holding the Meeting: United States International Trade Commission.

Time and Date: February 29, 2008 at 9:30 a.m.

Place: Room 101, 500 E Street, SW., Washington, DC 20436, Telephone: (202) 205-2000.

Status: Open to the public.

Matters To Be Considered:

1. Agenda for future meetings: none.

2. Minutes.

3. Ratification List.

4. Inv. No. 731-TA-1143 (Preliminary)(Small Diameter Graphite Electrodes from China)—briefing and vote. (The Commission is currently scheduled to transmit its determination to the Secretary of Commerce on or before March 3, 2008; Commissioners' opinions are currently scheduled to be transmitted to the Secretary of Commerce on or before March 10, 2008.)

5. Outstanding action jackets: none.

In accordance with Commission policy, subject matter listed above, not disposed of at the scheduled meeting, may be carried over to the agenda of the following meeting. Earlier notification of this meeting was not possible.

By order of the Commission:
Issued: February 25, 2008.
William R. Bishop,
Hearings and Meetings Coordinator.

[FR Doc. E8-3751 Filed 2-27-08; 8:45 am]

BILLING CODE 7020-02-P